DEPARTMENT OF HOMELAND SECURITY

Coast Guard

33 CFR Part 165

[Docket No. USCG-2023-0227]

Safety Zones; Fireworks Displays in the Fifth Coast Guard District—Philadelphia, PA

AGENCY: Coast Guard, DHS.

ACTION: Notification of enforcement of regulation.

SUMMARY: The Coast Guard will enforce the Delaware River, Philadelphia, PA; Safety Zone for fireworks displays on three separate periods. The safety zone will first be enforced from 9:15 p.m. through 10 p.m. on June 24, 2023, and again, during those same hours, on June 25, 2023, or on a rain date of June 26, 2023. The third period the safety zone will be enforced will be from 9 p.m. to 10 p.m. on July 4, 2023, or on a rain date of July 5, 2023. This is to provide for the safety of life on navigable waterways during each of the three separate barge-based fireworks displays. Our regulation for marine events within the Fifth Coast Guard District identifies the regulated area for this event in Philadelphia, PA. During the enforcement period, no person or vessel may enter, remain in, or transit through the regulated area, and anyone in the vicinity must comply with directions from the Patrol Commander or any Official Patrol displaying a Coast Guard ensign.

DATES: The regulation 33 CFR 165.506 for Philadelphia, PA, will be enforced for the location identified in entry 10 of table 1 to paragraph (h)(1) from 9:15 p.m. through 10 p.m. on June 24, 2023, and for the same hours on June 25, 2023, or on a rain date of June 26, 2023, and from 9 p.m. to 10 p.m. on July 4, 2023, or on a rain date of July 5, 2023.

FOR FURTHER INFORMATION CONTACT: If you have questions about this notice of enforcement, you may call or email Petty Officer Dylan Caikowski, U.S. Coast Guard, Sector Delaware Bay, Waterways Management Division, telephone 215-271-4814, email SecDelBayWWM@uscg.mil.

SUPPLEMENTARY INFORMATION: The Coast Guard will enforce the safety zone in table 1 to paragraph (h)(1) to 33 CFR 165.506, entry No. 10 for three periods, for three separate barge-based fireworks displays. The first two enforcement periods will be 9:15 p.m. through 10 p.m. on June 24, 2023, and 9:15 p.m. through 10 p.m. on June 25, 2023, or on a rain date of June 26, 2023. The third enforcement period will be from 9 p.m. to 10 p.m. on July 4, 2023, or on a rain date of July 5, 2023. This action is necessary to ensure safety of life on the navigable waters of the United States immediately prior to, during, and immediately after fireworks displays. Our regulation for safety zones of fireworks displays within the Fifth Coast Guard District, table 1 to paragraph (h)(1) to 33 CFR 165.506, entry 10 specifies the location of the regulated area as all waters of the Delaware River, adjacent to Penn's Landing, Philadelphia, PA, within a 500-yard radius of the fireworks barge position. The approximate position for the displays is latitude 39°56′49″ N, longitude 075°08′11″ W. During the enforcement period, as reflected in § 165.506(d), vessels may not enter, remain in, or transit through the safety zone unless authorized by the Captain of the Port or designated Coast Guard patrol personnel on-scene.

In addition to this notice of enforcement in the Federal Register, the Coast Guard will provide notification of this enforcement period via Local Notice to Mariners and Broadcast Notice to Mariners.

Dated: May 22, 2023.
Jonathan D. Theel,
Captain, U.S. Coast Guard, Captain of the Port, Sector Delaware Bay.

[FR Doc. 2023-11316 Filed 5-25-23; 8:45 am]

BILLING CODE 9110-04-P